DEPARTMENT OF THE INTERIOR

National Park Service

Draft Environmental Impact Statement; Stehekin River Corridor Implementation Plan; Lake Chelan National Recreation Area; Whatcom, Skagit and Chelan Counties, WA; Notice of Availability

Summary: Pursuant to § 102(2)(C) of the National Environmental Policy Act of 1969, the National Park Service, in cooperation with the Federal Highway Administration, has prepared a Draft Environmental Impact Statement and Stehekin River Corridor Implementation Plan (Plan/DEIS). The Plan/DEIS evaluates four alternatives for sustainable management of NPS facilities (e.g., roads, maintenance yard, trails, bridges) in response to flooding and erosion issues on the lower Stehekin River between High Bridge and Lake Chelan, outside of the Stephen Mather Wilderness. When approved, the Plan will allow for implementation of several actions identified in the 1995 General Management Plan (GMP), including removal of NPS maintenance and housing facilities and the primary access road to North Cascades National Park from the floodplain, construction of new recreation facilities, and protection of the water quality and scenery along the lower Stehekin River. The Plan/DEIS also updates the Lake Chelan National Recreation Area Land Protection Plan.

Background: Lake Chelan National Recreation Area (LACH) encompasses 62,000 acres of the rugged North Cascade mountains. The focal point of LACH is the Stehekin River, which occupies a deep glacial valley on the east slope of the range. The Stehekin River is known for being flood prone due to rapid runoff from steep, rocky slopes and the location of its headwaters on the wet Pacific Crest of the Cascade Range. The Lower Stehekin valley below High Bridge is particularly vulnerable to flood and erosion damage due to rapid decrease in stream energy as the river flows through a widening valley and empties into Lake Chelan.

Several key National Park Service (NPS) facilities (fuel storage, maintenance shops, and housing), private development, and roads are in the floodplain of the lower Stehekin River and threatened by floods. Flood conditions have become exacerbated by a shift in the timing, magnitude, and frequency of flooding on the Stehekin River in the 1970s, away from smaller spring floods to larger fall floods. This shift has produced the three largest floods since 1911 in the past 15 years. Changes in the river channel have resulted in threats to water quality and scenery as several private cabins and their sanitary systems have been incorporated into the river.

This plan seeks to implement and refine guidance from the 1995 GMP for LACH that identified a new location for administrative facilities outside of regulatory floodplains. Locations for expanded recreation opportunities outside of designated wilderness within the National Recreation Area were also identified in this plan. The 1995 LACH Land Protection Plan, scheduled to be updated every two years, is the primary means for the NPS to acquire private cabins and associated water and sanitary systems to prevent degradation of water quality and scenic resources. Given drastic changes in flood conditions, this plan was in need of revision.

Passage of the record floods in 2003 and 2006 led private landowners in the valley to request U.S. Army Corps of Engineers (COE) advice on how to reduce flooding. While the COE failed to secure funds to do a detailed five-year study, its emergency management team recommended extensive bank hardening with rock, and dredging of the river channel. Estimated one-time cost is $12 million for removal of gravel deposited since 2000 at two mile-long sites near McGregor Meadows and the Stehekin River mouth. The NPS finds the COE recommendations to manipulate the river contrary to the purpose and significance of LACH. The potential for major action by another agency and continued placement of structures on the Stehekin River by the NPS to protect the road and private landowners to protect property create the need to assess cumulative impacts before new actions are considered.

Surveys of channel topography (1972, 1990, 2004 and 2008) and position (1959, 1962, 1978, 1982, 1995, 2004, 2007, and 2009), measurement of gravel deposits (2007-08), hydrology data collected since 1911, and large wood surveys (conducted 1982, 2000, and 2007) provide the basis for development of a scientifically credible plan and impact analysis. Potential solutions for all alternatives were reviewed by a technical committee composed of representatives for the Washington DOE and DFW, Chelan PUD, Chelan County Planning Department, U.S. Fish and Wildlife Service, and a private consultant.

Public involvement in the conservation planning process began with widespread mailing of a scoping newsletter in early January 2008. Late in January 2008, meetings in Stehekin, Seattle, and Wenatchee provided an opportunity for the public to identify issues. Notice of Intent to prepare an environmental impact statement was published in the Federal Register on February 27, 2008. A news release for the public scoping meetings was sent in February 14, 2008, to local and regional news media (a follow up news release on March 5, 2008, extended public scoping to March 31). Following an NPS alternative development workshop in March 2008, a preliminary alternatives newsletter was developed and mailed to the public in summer 2008. This was followed-up by a public open house in Stehekin in August 2008. Both the newsletter and open house were announced via news releases to several media outlets, including local newspapers and radio and television stations.

Purpose and Need for Federal Action: Recent major floods and resultant channel changes on the lower Stehekin River are threatening NPS facilities and natural resources within LACH. The three largest recorded floods on the Stehekin River have occurred within the past 15 years, and in response the NPS has spent more than $3 million to protect public roads and facilities and to repair flood damage since 2003. Roads, visitor facilities and private homes once thought to be safe from the river are now threatened. Because of the current impacts and future risks associated with these unprecedented conditions, the primary purpose of this implementation plan is to enable the NPS to meet goals and direction provided in the 1995 GMP, including:

(1) Sustainably operate and maintain NPS administrative facilities, public access (roads and trails), and campgrounds; (2) Protect water quality, scenic values, habitat, and natural processes of the Stehekin River; and (3) Ensure the persistence of visitor services provided by the Stehekin community, including those services and facilities found on private lands.

The NPS and FHWA have identified a need to evaluate comprehensive and sustainable management strategies and holistic actions to address the consequences of flooding. This implementation plan is needed to address several interrelated issues, including the following:

(1) Respond to the Increased Magnitude and Frequency of Flooding. Prior to the late 20th century, the Stehekin River was prone primarily to spring snowmelt flooding. Since the 1970s, however, the Stehekin River has become prone to large fall rain-on-snow floods, which rise quickly and occur from mid-October through December. Hydrologic data collected on the river since 1911 confirm the statistical significance of this shift, as analyzed by the U.S. Geological Survey (USGS). The passage of severe floods in 1995, 2003, and 2006 has led to significant changes in the Stehekin River channel, and redefined the boundaries for the 100-year flood. As a result, recreational and administrative facilities and developments once thought to be safe from the river are now threatened by flooding and bank erosion, while other sites in the floodplain have been compromised by larger, more frequent floods. Until now, the NPS has addressed problems on a case-by-case basis throughout the valley with the passage of each of these large floods.

(2) Implement and Clarify 1995 Lake Chelan National Recreation Area General Management Plan Guidance. The GMP provides broad management guidance for LACH, as well as some specific prescriptions to mitigate the risks and consequences of flooding. As a programmatic document, the GMP lacks the specific management direction needed to respond to the current circumstances imposed by the recent floods and the change to a fall flood regime. Specific actions called for in the GMP that would be implemented in this plan include relocation of the maintenance facility and new NPS housing out of the floodplain, and continued maintenance of vehicle access on the Stehekin Valley and Company Creek roads. This implementation plan is needed to inform the location, design, construction, and implementation of these actions. Guidance provided by the GMP needs to be updated and clarified to reflect the dramatic increase in woody debris since 1995 and recognition of the influence of Chelan Public Utility District on the level of Lake Chelan and the lower Stehekin River. This plan is also needed to evaluate and publicly disclose the direct, indirect and cumulative impacts of these actions on the resources and values of Lake Chelan NRA.

(3) Sustain Public Facilities While Protecting Natural Resources. Management action is needed to provide long-term use and access to administrative and recreation facilities. Despite erosion protection and flood control efforts by the NPS and private landowners, bank erosion continues to threaten public and private property. Channel changes have increased the rate of erosion and frequency of flooding at some sites, while decreasing erosion rates at others. Integrated management actions such as facility relocation, site-specific bank hardening, and limited manipulation of woody debris in the Lake Chelan backwater zone now need to be considered to ensure the long-term sustainability of infrastructure and protection of resources. Management of large wood and proliferation of bank protection measures have the potential to impact Federal and state listed species and to increase the spread of non-native plants. These conditions underscore the need for updated assessment of erosion and flood protection measures in the lower Stehekin Valley.

(4) Manage Limited Funding. The NPS has invested more than $3 million to react to recent flood damage and new threats on an event-by-event basis since 2003. A comprehensive and integrated set of strategies and tactics to meet the goals of the GMP and to mitigate the risk and impacts from flooding is urgently needed to enable the NPS to use limited funds for the maximum benefit of LACH. Without this comprehensive approach, the NPS may be compelled to continue reacting on a case-by-case basis, which is more expensive and could more adversely threaten natural resources and public safety.

(5) Respond to Private Land-related Concerns. Lake Chelan NRA includes approximately 417 acres of private land, much of which lies within the floodplain and channel migration zone of the Stehekin River. Developments at McGregor Meadows and near the river mouth are particularly vulnerable because of their density and location in particularly active reaches of the river. These reaches, or sections of the river, have extensive new gravel deposits and rapidly growing logjams as a result of recent flooding. The high monetary and environmental costs of bank protection and flood mitigation measures continue to threaten private property and river resources. At the river mouth, accumulation of logs in the backwater zone of Lake Chelan has led to deeper flood water in parts of the floodplain. Recent flooding has hastened channel migration; damaged or destroyed several cabins; incorporated debris and sanitary systems (and occasional limited effluent discharges) into the river; and increased the flood risk to private lands previously not threatened by flooding. The NPS is concerned that these non-Federal circumstances could continue to adversely affect LACH and Stehekin River natural resources and values. The primary means by which the NPS can address this concern is via the Land Protection Plan (LPP), which identifies and prioritizes private lands for acquisition or exchange from willing sellers. Last updated in 1995, the LPP needs to be amended to address new river channel and floodplain conditions.

Proposed Plan and Alternatives: The Plan/DEIS describes and analyzes three “action” alternatives, as well as continuation of current management. The three alternative management strategies differ primarily because they range from more removal of public facilities and threatened private developments from the channel migration zone (preferred Alternative 2) to less relocation and more dependence on bank hardening and maintaining the road in place (Alternative 4). Alternative three represents a mix of actions in Alternatives 2 and 4.

All of the alternatives have common actions identified in the GMP, including relocation of NPS maintenance and some housing out of the channel migration zone, resurfacing of the road from Harlequin Bridge to mile 9.2 (just above Stehekin valley Ranch), and construction of a new trail system from Stehekin Landing to High Bridge with a connection to the river trail via a footbridge over the river near the USGS gage site. Alternatives 2, 3, and 4 would add new campsites at different locations to supplement sites at Harlequin Bridge that are seasonally flooded.

Alternative 1 (continue current management) and Alternative 4 would keep the Stehekin valley road in place through McGregor Meadows. To protect the road from flood damage and to ensure access to private residences for emergencies during floods, about 6,000 cubic yards of fill would be placed in the floodplain. In Alternative 4, as many as 17 new rock barbs (rock structures used to redirect flows) would be placed along the river, with a similar number anticipated over time in Alternative 1.

Alternatives 2 and 3 would relocate 1.9 miles of the Stehekin valley road from the floodplain in McGregor Meadows, while retaining private access to the area via a 0.75 mile long reduced maintenance road at grade. The alternatives differ in where the reroute returns to the existing road, with Alternative 2 staying out of the channel migration zone (CMZ) and Alternative 3 re-entering the CMZ at the Lower Field. Implementation of Alternative 2 would result in closure of the shooting range near the Lower Field. Both Alternatives 2 and 3 reduce the number of barbs in the river relative to alternatives 1 and 4 (7-8 new barbs in Alternative 2 and four new barbs in Alternative 3).

Alternatives 2, 3, and 4 would revise the LACH Land Protection Plan (LPP). Alternatives 2 and 3 would focus more on acquisition of private development threatened by the river, and look to cluster future development on areas outside of the channel migration zone. This represents a departure from the 1995 LPP, which placed a higher value on scenic resources along the Stehekin valley road. In Alternative 4, less emphasis would be placed on acquisition of development in the floodplain, and far fewer private parcels would be high priority for purchase or exchange.

Comments: All written comments must be postmarked or transmitted not later than December 13, 2010 (this end of comment period date will also be posted on the project Web site, and announced via local and regional press media). All comments should be addressed to: Superintendent, ATTN: SRCIP/DEIS, North Cascades National Park Service Complex, 810 State Route 20, Sedro Woolley, WA 98284. Comments may also be faxed to (360) 856-1934 or may be transmitted electronically to http://parkplanning.nps.gov/noca. The Plan/DEIS will be mailed directly to all those who requested a copy during public scoping. Review copies will also be available at park headquarters in Sedro-Woolley, the main visitor center in Newhalem, and at the Golden West Visitor center in Stehekin. To request a printed copy or CD-ROM version of the DEIS, phone (360) 856-5700 ext. 351. The document will also be available for downloading on the project Web site.

All comments received will be maintained in the administrative record, and are available for review at North Cascades' headquarters. Before including your address, phone number, e-mail address, or other personal identifying information in your comments, you should be aware that your entire comment—including your personal identifying information—may be made publicly available at any time. While you can ask us in your comment to withhold your personal identifying information from public review, we cannot guarantee that we will be able to do so.

To enhance the opportunity for public information and commenting, public meetings will be hosted at the following Washington locations: October 19 in Stehekin, October 20 in Wenatchee, and October 21 Seattle. Confirmed meeting times, specific locations and other details will be announced via local and regional news media and may be obtained on the park's Web site (http://www.nps.gov/noca) or by phoning (360) 856-5700 ext.351. Participants are strongly encouraged to review the document prior to attending a meeting. The Superintendent and planning team members, including personnel from the Technical Committee will attend all meetings. The format will be the same for each meeting, and will include a brief presentation on the essential elements of the Plan/DEIS and a question and answer period. Oral and written comments may also be submitted. All meeting locations will be accessible for disabled persons. A sign language interpreter may be available upon request with prior notice (please contact the park as noted above).

Decision: Following due consideration of all comments received on the DEIS, preparation and release of the Final EIS/Stehekin River Corridor Implementation Plan is anticipated for late summer 2010; availability will be similarly announced in the Federal Register. The actual date will depend upon the degree of public interest and response from agencies and organizations. Following a minimum 30 days “no action” period, a Record of Decision may be prepared; approval of the plan will be similarly announced in the Federal Register. This is tentatively anticipated for late 2010. As a delegated EIS the official responsible for the final decision is the Regional Director, Pacific West Region; subsequently the official responsible for implementation of the approved Stehekin River Corridor Implementation Plan is the Superintendent, North Cascades National Park Service Complex.

Dated: March 12, 2010.
Patricia L. Neubacher,
Acting Regional Director, Pacific West Region.

Editorial Note: This document was received in the Office of the Federal Register on August 31, 2010.

[FR Doc. 2010-22144 Filed 9-3-10; 8:45 am]

BILLING CODE 4310-T6-P